FEDERAL COMMUNICATIONS COMMISSION

47 CFR Part 4

[PS Docket No. 15-80; FCC 20-20; FRS 16584]

Disruptions to Communications; Correction

AGENCY: Federal Communications Commission.

ACTION: Proposed rule; correction.

SUMMARY: The Federal Communications Commission (Commission) published a document in the Federal Register on March 31, 2020, seeking comment on a proposed a framework to provide state and federal agencies with access to outage information to improve their situational awareness while preserving the confidentiality of this data. The document contained an incorrect URL link to the full text of the proposal available on the Commission's website. This document corrects the URL link.

DATES: April 14, 2020.

FOR FURTHER INFORMATION CONTACT: Saswat Misra, Attorney Advisor, Cybersecurity and Communications Reliability Division, Public Safety and Homeland Security Bureau, (202) 418-0944 or via email at Saswat.Misra@fcc.gov.

SUPPLEMENTARY INFORMATION:

Correction

In the Federal Register of March 31, 2020 (85 FR 17818, in FR Doc. 2020-06085, in the SUPPLEMENTARY INFORMATION section on page 17819, in the second column, at lines 8-10, correct the text to read: The full text may also be downloaded at: https://docs.fcc.gov/public/attachments/FCC-20-20A1.pdf.

Federal Communications Commission.
Cecilia Sigmund,
Federal Register Liaison Officer.

[FR Doc. 2020-07541 Filed 4-13-20; 8:45 am]

BILLING CODE 6712-01-P